DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Annual Refiling Survey.” A copy of the proposed information collection request can be obtained by contacting the individual listed below in the Addresses section of this notice.

DATES: Written comments must be submitted to the office listed in the Addresses section of this notice on or before October 23, 2020.

ADDRESSES: Send comments to Carol Rowan, BLS Clearance Officer, Division of Management Systems, Bureau of Labor Statistics, Room 4080, 2 Massachusetts Avenue NE, Washington, DC 20212. Written comments also may be transmitted by email to BLS_PRA_Public@bls.gov.

FOR FURTHER INFORMATION CONTACT: Carol Rowan, BLS Clearance Officer, at 202-691-7628 (this is not a toll free number). (See Addresses section.)

SUPPLEMENTARY INFORMATION:

I. Background

The Quarterly Census of Employment and Wages (QCEW) program is a federal/state cooperative effort which compiles monthly employment data, quarterly wages data, and business identification information from employers subject to state Unemployment Insurance (UI) laws. These data are collected from state Quarterly Contribution Reports (QCRs) submitted to State Workforce Agencies (SWAs). The states send micro-level employment and wages data, supplemented with the names, addresses, and business identification information of these employers, to the BLS. The state data are used to create the BLS sampling frame, known as the longitudinal QCEW data.

To ensure the continued accuracy of these data, the information supplied by employers must be periodically verified and updated. For this purpose, the Annual Refiling Survey (ARS) is used in conjunction with the UI tax reporting system in each state. The information collected by the ARS is used to review the existing industry code assigned to each establishment as well as the physical location of the business establishment. As a result, changes in the industrial and geographical compositions of our economy are captured in a timely manner and reflected in the BLS statistical programs.

The ARS also asks employers to identify new locations in the state. If these employers meet QCEW program reporting criteria, then a Multiple Worksite Report (MWR) is sent to the employer requesting employment and wages for each worksite each quarter. Thus, the ARS is also used to identify new potential MWR-eligible employers.

II. Current Action

Office of Management and Budget clearance is being sought for a revision to the ARS.

Once every three years, the SWAs survey employers that are covered by the state's UI laws to ensure that state records correctly reflect the business activities and locations of those employers. States survey approximately one-third of their businesses each year and largely take care of the entire universe of covered businesses over a three-year cycle. The selection criterion for surveying establishments is based on the nine-digit Federal Employer Identification Number of the respondent.

BLS constantly pursues a growing number of automated reporting options to reduce employer burden and costs and to take advantage of more efficient methods and procedures. Even given such actions, mailing remains an important part of the survey. The BLS developed a one-page letter rather than mailing forms for ARS solicitation. This letter explains the purpose of the ARS and provides respondents with a unique Web ID and password. Respondents are directed to the BLS online web collection system to verify or to update their geographic and industry information. Additionally, BLS staff review selected, large multi-worksite national employers rather than surveying these employers with traditional ARS forms. This central review reduces postage costs incurred by the states in sending letters or forms. It also reduces respondent burden, as the selected employers do not have to return forms either. BLS continues to use a private contractor to handle various administrative aspects of the survey to reduce the costs associated with the ARS. This initiative is called the Centralized Annual Refiling Survey (CARS). Under CARS, BLS effectively utilizes the commercial advantages related to printing and mailing large volumes of survey letters. Finally, BLS continues to make use of email addresses collected from the ARS and from the state Unemployment Insurance agencies for solicitation purposes. Use of email for solicitation reduces the overall cost of data collection. BLS will also continue to make use of email solicitation of small establishments that had been excluded from the ARS for budgetary reasons. Since collection costs for email solicitation are minimal, these respondents can continue to be added back to the ARS at little cost to the government.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Annual Refiling Survey.

OMB Number: 1220-0032.

Type of Review: Revision of a currently approved collection.

Affected Public: Business or other for-profit, Not-for-profit institutions, and farms.

ARS collection instrument | Total responses | Frequency | Estimated time per response | Total burden (hours)
BLS NVS Non-mandatory | 397,000 | once | 5 minutes | 33,083
BLS NVS Mandatory | 444,000 | once | 5 minutes | 37,000
BLS NVM Non-mandatory | 22,000 | once | 15 minutes | 5,500
BLS NVM Mandatory | 24,000 | once | 15 minutes | 6,000
BLS NCA Non-mandatory | 91,000 | once | 10 minutes | 15,167
BLS NCA Mandatory | 120,000 | once | 10 minutes | 20,000
Totals | 1,098,000 |  |  | 116,750

Comments submitted in response to this notice will be summarized and/or included in the request for Office of Management and Budget approval of the information collection request; they also will become a matter of public record.

Signed at Washington, DC, on August 18, 2020.
Leslie Bennett,
Acting Chief, Division of Management Systems.

[FR Doc. 2020-18460 Filed 8-21-20; 8:45 am]

BILLING CODE 4510-24-P